DEPARTMENT OF COMMERCE

Economic Development Administration

Notice of Petitions by Firms for Determination of Eligibility To Apply for Trade Adjustment Assistance

AGENCY: Economic Development Administration, Commerce.

ACTION: Notice and opportunity for public comment.

SUPPLEMENTARY INFORMATION: Pursuant to Section 251 of the Trade Act 1974, as amended (19 U.S.C. 2341 et seq.), the Economic Development Administration (EDA) has received petitions for certification of eligibility to apply for Trade Adjustment Assistance from the firms listed below. Accordingly, EDA has initiated investigations to determine whether increased imports into the United States of articles like or directly competitive with those produced by each of these firms contributed importantly to the total or partial separation of the firm's workers, or threat thereof, and to a decrease in sales or production of each petitioning firm.

List of Petitions Received by EDA for Certification Eligibility To Apply for Trade Adjustment Assistance
[3/24/2015 through 3/27/2015]
Firm name | Firm address | Date accepted for investigation | Product(s)
Atlas Stamping and Manufacturing Corporation | 729 North Mountain Road, Newington, CT 06111 | 3/24/2015 | The firm manufactures precision metal stamped seals, gaskets, washers, and brackets.
Drill Masters-Eldorado Tools, Inc | 336 Boston Post Road, Milford, CT 06460 | 3/25/2015 | The firm manufactures deep hole gun drilling tools, fixtures and accessories.
West Michigan Spring and Wire Forming, Inc. d/b/a West Michigan Tube and Wire Forming | 2724 Ninth Street, Muskegon, MI 49444 | 3/25/2015 | The firm manufactures seating and framing components of bent tubular steel and wire formed assemblies.
Graham Machine, Inc | 1581 Pittsburgh Road, Franklin, PA 16323 | 3/25/2015 | The firm manufactures mining and safety equipment such as bushings, shafts, bearing housings and beam anchor components.
Slim Line Case Company | 36 St. Paul Street, Suite 321, Rochester NY 14604 | 3/26/2015 | The firm manufactures handcrafted leather ID cases and key cases and other personal leather goods.
CMG Process, Inc. d/b/a APEX Engineered Products | 2659 Lake Road, Clark, PA 16113 | 3/26/2015 | The firm manufactures and designs process equipment such as shell and tube heat exchangers.
Custom Powder Systems, LLC | 2715 North Airport Commerce, Springfield, MO 65803 | 3/26/2015 | The firm manufactures metal containment systems including bins systems, cleaning systems, and lift systems.

Any party having a substantial interest in these proceedings may request a public hearing on the matter. A written request for a hearing must be submitted to the Trade Adjustment Assistance for Firms Division, Room 71030, Economic Development Administration, U.S. Department of Commerce, Washington, DC 20230, no later than ten (10) calendar days following publication of this notice.

Please follow the requirements set forth in EDA's regulations at 13 CFR 315.9 for procedures to request a public hearing. The Catalog of Federal Domestic Assistance official number and title for the program under which these petitions are submitted is 11.313, Trade Adjustment Assistance for Firms.

Dated: March 27, 2015.
Michael S. DeVillo,
Eligibility Examiner.

[FR Doc. 2015-07570 Filed 4-1-15; 8:45 am]

BILLING CODE CODE 3510-WH-P